DEPARTMENT OF ENERGY

Federal Energy Regulatory Commission

[Project No. 7987-014]

Notice of Transfer of Exemption; Hydrodyne Industries, LLC, UP Property 2, LLC

1. By letter filed March 8, 2018, Charles T. Hagan, III, Manager, Hydrodyne Industries, LLC, exemptee informed the Commission that the exemption from licensing for the High Falls Hydroelectric Project No. 7987, originally issued September 12, 1984 ¹ has been transferred to UP Property 2, LLC. The project is located on the Deep River in Moore County, North Carolina. The transfer of an exemption does not require Commission approval.

¹ Order Granting Exemption From Licensing of a Small Hydroelectric Project of 5 Megawatts or Less. Cook Industries, Inc., 28 FERC 62,352 (1984).

2. UP Property 2, LLC is now the exemptee of the High Falls Hydroelectric Project No. 7987. All correspondence should be forwarded to: Mr. Aaron Aho, Land and Resource Associate, UP Property 2, LLC, P.O. Box 52357, Durham, NC 27717, Phone: 919-491-1964, Email: aaho@uniqueplacesllc.com.

Dated: April 12, 2018.
Nathaniel J. Davis, Sr.,
Deputy Secretary.

[FR Doc. 2018-08077 Filed 4-17-18; 8:45 am]

BILLING CODE 6717-01-P